FEDERAL COMMUNICATIONS COMMISSION

47 CFR Part 27

[WT Docket No. 03-66; RM-10586; FCC 10-107]

Facilitating the Provision of Fixed and Mobile Broadband Access, Educational and Other Advanced Services in the 2150-2162 and 2500-2690 MHz Bands

AGENCY: Federal Communications Commission.

ACTION: Correction.

SUMMARY: The FCC published a document in the Federal Register of June 15, 2010, (75 FR 33729), clarifying the requirements necessary for Broadband Radio Service (BRS) and Educational Broadband Service (EBS) licensees to demonstrate substantial service and ensure that BRS licensees of new initial licenses are given a reasonable period of time to deploy service, while ensuring that spectrum is rapidly placed in use. The document contained an incorrect page number in reference to the BRS/EBS Third Further Notice of Proposed Rulemaking citation.

DATES: Effective July 15, 2010.

FOR FURTHER INFORMATION CONTACT: Nancy M. Zaczek, Wireless Telecommunications Bureau, Broadband Division, Federal Communications Commission, 445 12th Street, SW., Washington, DC 20554, at (202) 418-0274 or via the Internet to Nancy.Zaczek@fcc.gov.

Correction

In the Federal Register 75 FR 33729 published on Tuesday, June 15, 2010, the following correction is made: On page 33730, second column, paragraph 3, first sentence, remove the phrase “74 FR 49335” and insert “74 FR 49356.”

Marlene H. Dortch,
Secretary, Federal Communications Commission.

[FR Doc. 2010-15348 Filed 6-23-10; 8:45 am]

BILLING CODE 6712-01-P